DEPARTMENT OF COMMERCE

Bureau of the Census

15 CFR Part 30

[Docket Number: 151222999-6020-01]

RIN 0607-AA55

Foreign Trade Regulations: Clarification on Filing Requirements

AGENCY: Bureau of the Census, Commerce Department.

ACTION: Notice of proposed rulemaking.

SUMMARY: The Bureau of the Census (Census Bureau) is proposing to amend its regulations to reflect new export reporting requirements related to the implementation of the International Trade Data System (ITDS), in accordance with the Executive Order 13659, Streamlining the Export/Import Process for American Businesses. The ITDS was established by the Security and Accountability for Every (SAFE) Port Act of 2006. The proposed changes also include the addition of two new data elements in the Automated Export System (AES); the original Internal Transaction Number (ITN) field and the used electronics indicator. Lastly, the Census Bureau proposes to make changes to provide clarity on existing reporting requirements. These changes are discussed in detail in the SUPPLEMENTARY INFORMATION section.

DATES: Submit written comments on or before May 9, 2016.

ADDRESSES: Please direct all written comments on this notice of proposed rulemaking to the Chief, International Trade Management Division, U.S. Census Bureau, Washington, DC 20233-6010. You may also submit comments, identified by RIN number 0607-AA55, to the Federal e-Rulemaking Portal: http://www.regulations.gov. All comments received are part of the public record. No comments will be posted to http://www.regulations.gov for public viewing until after the comment period has closed. Comments will generally be posted without change. All Personal Identifying Information (for example, name and address) voluntarily submitted by the commenter may be publicly accessible. Do not submit Confidential Business Information or otherwise sensitive or protected information. The Census Bureau will accept anonymous comments (enter N/A in the required fields, if you wish to remain anonymous). You may submit attachments to electronic comments in Microsoft Word, Excel, WordPerfect, or Adobe PDF file formats only.

FOR FURTHER INFORMATION CONTACT: Dale C. Kelly, Chief, International Trade Management Division, U.S. Census Bureau, Washington, DC 20233-6010, by phone: (301) 763-6937, by fax: (301) 763-8835, or by email: dale.c.kelly@census.gov.

SUPPLEMENTARY INFORMATION:

Background

The Census Bureau is responsible for collecting, compiling, and publishing trade statistics for the United States under the provisions of title 13 of the United States Code (U.S.C.), chapter 9, section 301. The International Trade Data System (ITDS), the interagency program for collecting trade related information was established by section 405 of the Security and Accountability for Every (SAFE) Port Act of 2006 (Pub. L. 109-347, 120 Stat. 1884) to eliminate redundant information collection and for the collection and distribution of standard electronic import and export data required by all participating federal agencies. The ITDS also seeks to efficiently regulate the flow of commerce and to effectively enforce laws and regulations relating to international trade by establishing a single portal system, or “single window.”

The Automated Export System (AES), or any successor system, is the mechanism by which Census Bureau collects Electronic Export Information (EEI)—the electronic equivalent of the export data formerly collected on the Shipper's Export Declaration, reported pursuant to title 15 of the Code of Federal Regulations (CFR), part 30. In order to achieve the goals of the ITDS, the AES has been incorporated into Automated Commercial Environment (ACE), the “single window,” which is operated and maintained by U.S. Customs and Border Protection (CBP) for the submission and processing of trade information. The AES will additionally include export information collected under other federal agencies' authority, which is subject to those agencies' disclosure mandates.

The Census Bureau is also proposing to add two new data elements, “Original ITN” and a “Used electronics indicator.” The “Original ITN” may be utilized if a previously filed shipment is replaced or divided and for which additional shipment(s) must be filed. Adding the “Original ITN” will assist the export trade community and enforcement agencies in identifying that a filer completed the mandatory filing requirements for the original shipment and any additional shipment(s). The “Used electronics indicator” is being added to improve information on trade flows on used electronics in order to effectuate the Resource Conservation and Recovery Act (RCRA) 42 U.S.C. 6901 et seq.; Executive Order 13693, Planning for Federal Sustainability in the Next Decade; and the National Strategy for Electronics Stewardship. The goal of these directives is to improve the availability and quality of data on the trade and handling of used electronics in order to develop and encourage the employment of environmentally sound practices with respect to disposal of all excess or surplus electronic products in order to reduce the likelihood of negative impacts to the health and environment in developing countries.

The revised timeframes for split shipments that were addressed in FTR Letter #6, Notice of Regulatory Change for Split Shipments, have been incorporated into the proposed text.

Finally, the proposed revisions to the FTR have received concurrence from the Department of Homeland Security and the U.S. Department of State as required by title 13, United States Code, section 303, and Public Law 107-228, div. B, title XIV, section 1404.

Program Requirements

The Census Bureau is proposing to amend the following sections of 15 CFR part 30:

• In § 30.1(c), revise the definition of “AES applicant” to remove the text “applies to the Census Bureau for authorization” and “or its related applications” because the registration will no longer go through the Census Bureau. Rather, the registration will be submitted to CBP through its Web site or through ACE and will be processed by CBP. Also, related applications will be eliminated.

• In § 30.1(c), revise the definition of “AESDirect” to clarify the appropriate parties that can transmit Electronic Export Information (EEI) through the AES, clarify that all regulatory requirements pertaining to AES also apply to AESDirect, and eliminate the URL.

• In § 30.1(c), revise the definition of “AES downtime filing citation” to allow for an electronic process and to clarify that the citation cannot be used for shipments subject to the International Traffic in Arms Regulations (ITAR).

• In § 30.1(c), remove the definition of “AES participant application (APA)” because the APA is no longer used for filers to obtain access to the AES.

• In § 30.1(c), revise the definition of “Annotation” to remove the word “placed” to eliminate the implication of a manual process and add “or electronic equivalent” to allow for an electronic process.

• In § 30.1(c), add the definition of “Automated Commercial Environment (ACE)” to identify the system through which the trade community reports data.

• In § 30.1(c), revise the definition of “Automated Export System (AES)” to reduce redundancy.

• In § 30.1(c), revise the definition of “Bill of lading (BL)” to distinguish between the responsibilities of the carrier and the authorized agent.

• In § 30.1(c), revise the definition of “Container” to make the language consistent with Article 1 of the Customs Convention on Containers.

• In § 30.1(c), remove the definition of “Domestic exports” because this term is not used in the FTR and add the definition of “Domestic goods.”

• In § 30.1(c), revise the definition “Fatal error message” by removing the language “the problem, correct the data” to reduce redundancy.

• In § 30.1(c), revise the term “Filers” to “Filer” and revise the definition to reduce redundancy.

• In § 30.1(c), remove the definition of “Foreign exports” because this term is not used in the FTR and add the definition of “Foreign goods.”

• In § 30.1(c), remove the definition for “Non Vessel Operating Common Carrier (NVOCC)” because the term is not referenced in the FTR.

• In § 30.1(c), revise the definition of “Proof of filing citation” by removing the word “placed” to eliminate the implication of a manual process and allow for an electronic process.

• In § 30.1(c), remove the definition of “Reexport” because the term is not used for statistical purposes in the FTR.

• In § 30.1(c), revise the definition of “Service center” to clarify the role of a service center as it pertains to the FTR.

• In § 30.1(c), revise the term “Shipment reference number” to read as “Shipment Reference Number (SRN).”

• In § 30.1(c), revise the definition of “Split shipment” to incorporate the revised timeframes addressed in FTR Letter #6, Notice of Regulatory Change for Split Shipments.

• In § 30.1(c), revise the term “Transportation reference number” to read as “Transportation Reference Number (TRN).”

• In § 30.1(c), add the term “Used electronics” to clarify the new conditional data element that will be collected.

• Revise § 30.2(a)(1)(iv)(A) to ensure consistency with the Department of Commerce, Bureau of Industry and Security regulations.

• Revise § 30.2(a)(1)(iv)(C) to add language which notes that the filer must reference the Department of State regulations for exceptions to the filing requirements for goods subject to the ITAR.

• Revise § 30.2(b)(3) to remove the reference to “30.4(b)(3)” and add “30.4(b)(4)” in its place.

• Revise § 30.2(c) to clarify the ACE Exporter Account Application and Certification Process.

• Revise § 30.3(e)(2) to add language requiring the date of export and Internal Transaction Number (ITN) to be provided to the U.S. Principal Party in Interest (USPPI) upon request.

• Revise § 30.3(e)(2) to add paragraph (xv) “Ultimate consignee type” to clarify that the authorized agent is responsible for reporting the ultimate consignee type in a routed export transaction.

• Revise § 30.4(b)(2)(v) to reference only mail shipments by removing the words “and cargo shipped by other modes, except pipelines” because all other modes are covered in paragraph (vi). In addition, revise language to replace “exporting carrier” with “U.S. Postal Service” and remove the reference to § 30.46 because pipeline language has been added to § 30.4(c)(2).

• Revise § 30.4(b)(3) to indicate that the USPPI or authorized agent must provide the proof of filing citation, postdeparture filing citation, AES downtime citation, exemption or exclusion legend to the carrier.

• Revise § 30.4(c) to read “EEI transmitted postdeparture.”

• Revise § 30.4 by adding paragraphs (c)(1) to address current postdeparture filing procedures and (c)(2) to address pipeline filing procedures.

• Revise the title of § 30.5 to be “Electronic Export Information filing processes and standards” to accurately reflect the information that remains in this section since the AES application and certification process are removed.

• Revise § 30.5 to remove the introduction paragraph and remove and reserve paragraphs (a) and (b) because the certification process is now addressed in § 30.2(c).

• Remove § 30.5(d)(3) to remove outdated requirements.

• Revise § 30.5(f) to amend outdated information.

• Revise § 30.6 introductory paragraph to add language indicating that additional elements collected in ITDS are mandated by the regulations of other federal government agencies.

• Revise § 30.6(a)(1) to include the definition of the USPPI for consistency with the format for other data elements.

• Revise § 30.6(a)(1)(iii) to clarify the use of an Employer Identification Number (EIN) and include the Data Universal Numbering System (DUNS) number as an acceptable USPPI ID number.

• Revise § 30.6(a)(1)(iv) to clarify whose contact information should be provided in the AES for the USPPI.

• Revise § 30.6(a)(5)(i) to clarify the country of ultimate destination to be reported with respect to shipments under BIS and State Department export licenses.

• Revise § 30.6(a)(5)(ii) and add paragraphs (A) through (C) to clarify the country of ultimate destination to be reported with respect to shipments not moving under an export license.

• Revise § 30.6(a)(11) by removing paragraphs (i) and (ii) as domestic goods and foreign goods are now included in § 30.1(c) as definitions.

• Revise § 30.6(a)(19) to conform with the revised term “Shipment reference number (SRN).”

• Revise the title of § 30.6(b)(14) to conform with the revised term “Transportation Reference Number (TRN).”

• Revise § 30.6(b) to add paragraph (18) to include the used electronics indicator to improve information on trade flows and the disposal of used electronics to ensure compliance with the Resource Conservation and Recovery Act (RCRA) 42 U.S.C 6901 et seq. and Executive Order 13693, Planning for Sustainability in the Next Decade.

• Revise § 30.6(c) to add paragraph (3) to include the original ITN field. Adding the original ITN field will assist the export trade community and enforcement agencies in identifying that a filer completed the mandatory filing requirements for the original shipment and any additional shipment(s).

• Remove § 30.10(a)(1) and (2) because the electronic certification notice is no longer provided.

• Revise § 30.28 introductory paragraph to incorporate the revised timeframes addressed in FTR Letter #6, Notice of Regulatory Change for Split Shipments.

• Revise § 30.28(a) to allow for an electronic process and incorporate the revised timeframes.

• Revise § 30.28 by removing paragraph (c) to eliminate redundancy.

• Revise § 30.29(a)(1), (a)(2) and (b)(2) to remove the terms “Non-USML” and “USML” and add the phrases “goods not licensed by a U.S. Government agency” and “goods licensed by a U.S. Government agency or controlled by the ITAR” to clarify that EEI shall be filed as stated on the export license, if applicable.

• Revise § 30.36(b)(4) to ensure consistency with the Export Administration Regulations.

• Revise the title to subpart E and § 30.45, revise § 30.45(a), (a)(1) and (b), remove and reserve § 30.45(a)(2), and remove § 30.45(c) through (f) to ensure consistency with the CBP regulations.

• Revise §§ 30.46 and 30.47 by removing and reserving these sections.

• Revise § 30.50 introductory paragraph to remove Automated Broker Interface (ABI) and insert the reference to ACE.

• Revise § 30.53 introductory paragraph to provide more detail for classifying goods temporarily imported for repair and remove § 30.53(a) and (b).

• Revise § 30.74(c)(5) to indicate the new division name and revise the address.

Appendix B

• Revise appendix B, part III, to include the new BIS License Exception C60 DY6—.y “600 series” items.

• Revise appendix B, part III, to include the new BIS License Exception C62 SCP—Support for the Cuban People.

Appendix D

• Revise the title in appendix D to read “Appendix D to Part 30—AES Filing Citation, Exemption and Exclusion Legends.”

• Revise appendix D numbers III and IV to clarify the dates listed in the examples are the dates of export.

• Revise appendix D to remove “XII. Proof of filing citations by pipeline.”

Appendix E

• Remove appendix E as the references between the Foreign Trade Statistics Regulations (FTSR) and FTR are no longer necessary because the FTSR became obsolete on June 2, 2008.

Rulemaking Requirements

Regulatory Flexibility Act

The Chief Counsel for Regulation of the Department of Commerce certified to the Chief Counsel for Advocacy of the Small Business Administration (SBA) that this proposed rule will not have a significant impact on a substantial number of small entities.

This action requires that U.S. Principal Parties in Interest (USPPIs) or authorized agents in the United States file export information to the AES for all shipments where an Electronic Export Information (EEI) record is required under the FTR. The SBA's table of size standards indicates that businesses that are the USPPI or authorized agent and file export information are considered small businesses if they employ less than 500 people. Based on Exhibit 7a of the 2013 Profile of U.S. Exporting Companies, the Census Bureau estimates that there are 297,000 USPPIs that are considered small business entities under the Small Business Act definition. And more than 90 percent of these USPPIs use an authorized agent to file export information. An estimate of the number of authorized agents is not known and unable to be determined.

The Census Bureau anticipates that the new requirements will not significantly affect the small businesses that file through the AES. While this regulation would likely affect a substantial number of agents that are small entities, it is not likely that the effect will be significant. The majority of agents require use of a computer to perform routine tasks, such as filing through the AES. These agents are unlikely to be significantly affected by these new requirements, as they already possess the necessary technology and equipment to submit the information through the AES. In addition, it is not necessary for small businesses to purchase software for this task because a free Internet-based system is provided, AESDirect, especially for small businesses to submit their export information electronically. The proposed new requirements will have minimal impact on response burden. For these reasons, this proposed rule will not have a significant economic impact on a substantial number of small entities.

Executive Orders

This proposed rule has been determined to be not significant for purposes of Executive Order 12866. It has been determined that this proposed rule does not contain policies with federalism implications as that term is defined under Executive Order 13132.

Paperwork Reduction Act

Notwithstanding any other provision of law, no person is required to respond to, nor shall a person be subject to a penalty for failure to comply with, a collection of information subject to the requirements of the Paperwork Reduction Act (PRA), unless that collection of information displays a current and valid Office of Management and Budget (OMB) control number. This proposed rule contains a collection-of-information subject to the requirements of the PRA (44 U.S.C. 3501 et seq.) and has been approved under OMB control number 0607-0152.

List of Subjects in 15 CFR Part 30

Economic statistics, Exports, Foreign trade, Reporting and recordkeeping requirements.

For the reasons set out in the preamble, the Census Bureau is proposing to amend 15 CFR part 30 as follows:

PART 30—FOREIGN TRADE REGUALTIONS

Subpart A—General Requirements

1. The authority citation for part 30 continues to read as follows:

Authority: 5 U.S.C. 301; 13 U.S.C. 301-307; Reorganization plan No. 5 of 1990 (3 CFR 1949-1953 Comp., p. 1004); Department of Commerce Organization Order No. 35-2A, July 22, 1987, as amended, and No. 35-2B, December 20, 1996, as amended; Pub. L. 107-228, 116 Stat. 1350.

2. Amend § 30.1(c) by:

a. Revising the definitions for “AES applicant”, “AESDirect”, and “AES downtime filing citation”;

b. Removing the definition for “AES participant application (APA)”;

c. Revising the definition for “Annotation”;

d. Adding in alphabetical order the definition for “Automated Commercial Environment (ACE)”;

e. Revising the definitions for “Automated Export System (AES)”, “Bill of lading (BL)”, and “Container”;

f. Removing the definition for “Domestic exports”;

g. Adding in alphabetical order the definition for “Domestic goods”;

h. Revising the definition for “Fatal error message”;

i. Remove the definition for “Filers” and add in its place a definition for “Filer”;

j. Removing the definition for “Foreign exports”;

k. Adding in alphabetical order the definition for “Foreign goods”;

l. Removing the definition for “Non Vessel Operating Common Carrier”;

m. Revising the definition for “Proof of filing citation”;

n. Removing the definition for “Reexport”;

o. Revising the definitions for “Service center”, “Shipment reference number”, “Split shipment”, and “Transportation reference number”; and

p. Adding in alphabetical order the definition for “Used electronics”.

The revisions and additions read as follows:

§ 30.1 Purpose and definitions.

* * * * *

(c) * * *

AES applicant. The USPPI or authorized agent who registers through ACE to report export information electronically to the AES, or through AESDirect.

AESDirect. A free Internet application that allows USPPIs and authorized agents to transmit EEI to the AES via the Internet. All regulatory requirements pertaining to AES also apply to AESDirect.

AES downtime filing citation. A statement used in place of a proof of filing citation when the AES or AESDirect are inoperable. The citation must appear on the bill of lading, air waybill, export shipping instructions, other commercial loading documents or electronic equivalent. The downtime filing citation is not to be used when the filer's system is down, experiencing delays or for shipments subject to the International Traffic in Arms Regulations (ITAR).

* * * * *

Annotation. An explanatory note (e.g., proof of filing citation, postdeparture filing citation, AES downtime filing citation, exemption or exclusion legend) on the bill of lading, air waybill, export shipping instructions, other commercial loading documents or electronic equivalent.

* * * * *

Automated Commercial Environment (ACE). A CBP authorized electronic data interchange system for processing import and export data.

Automated Export System (AES). The system, including AESDirect, for collecting EEI (or any successor document) from persons exporting goods from the United States, Puerto Rico, or the U.S. Virgin Islands; between Puerto Rico and the United States; and to the U.S. Virgin Islands from the United States or Puerto Rico.

Bill of Lading (BL). A document that establishes the terms of a contract under which freight is to be moved between specified points for a specified charge. It is issued by the carrier based on instructions provided by the shipper or its authorized agent. It may serve as a document of title, a contract of carriage, and a receipt for goods.

* * * * *

Container. (1) The term container shall mean an article of transport equipment (lift-van, movable tank or other similar structure):

(i) Fully or partially enclosed to constitute a compartment intended for containing goods;

(ii) Of a permanent character and accordingly strong enough to be suitable for repeated use;

(iii) Specially designed to facilitate the carriage of goods, by one or more modes of transport, without intermediate reloading;

(iv) Designed for ready handling, particularly when being transferred from one mode of transport to another;

(v) Designed to be easy to fill and to empty; and

(vi) Having an internal volume of one cubic metre or more;

(2) The term container shall include the accessories and equipment of the container, appropriate for the type concerned, provided that such accessories and equipment are carried with the container. The term container shall not include vehicles, accessories or spare parts of vehicles, or packaging. Demountable bodies are to be treated as containers.

* * * * *

Domestic goods. Goods that are grown, produced, or manufactured in the United States, or previously imported goods that have undergone substantial transformation in the United States, including changes made in a U.S. FTZ, from the form in which they were imported, or that have been enhanced in value or improved in condition by further processing or manufacturing in the United States.

* * * * *

Fatal error message. An electronic response sent to the filer by the AES when invalid or missing data has been encountered, the EEI has been rejected, and the information is not on file in the AES. The filer is required to immediately correct and retransmit the EEI.

Filer. The USPPI or authorized agent (of either the USPPI or FPPI) who has been approved to file EEI.

* * * * *

Foreign goods. Goods that were originally grown, produced, or manufactured in a foreign country, then subsequently entered into the United States, admitted to a U.S. FTZ, or entered into a CBP bonded warehouse, but not substantially transformed in form or condition by further processing or manufacturing in the United States, U.S. FTZs, Puerto Rico, or the U.S. Virgin Islands.

* * * * *

Proof of filing citation. A notation on the bill of lading, air waybill, export shipping instructions, other commercial loading document or electronic equivalent, usually for carrier use, that provides evidence that the EEI has been filed and accepted in the AES.

* * * * *

Service center. A company, entity, or organization that has been certified and approved to facilitate the transmission of EEI to the AES.

* * * * *

Shipment reference number (SRN). A unique identification number assigned to the shipment by the filer for reference purposes. The reuse of the SRN is prohibited.

* * * * *

Split shipment. A shipment covered by a single EEI record booked for export on one conveyance, that is divided by the exporting carrier prior to export where the cargo is sent on two or more of the same conveyances of the same carrier leaving from the same port of export within 24 hours by vessel or 7 days by air, truck or rail.

* * * * *

Transportation reference number (TRN). A reservation number assigned by the carrier to hold space on the carrier for cargo being shipped. It is the booking number for vessel shipments and the master air waybill number for air shipments, the bill of lading number for rail shipments, and the freight or pro bill for truck shipments.

* * * * *

Used electronics. Various electronic equipment, products and associated accessories including consumer electronics and information technology equipment that are no longer in new packaging and have been given away or sold to be recycled, resold, reused, refurbished, repaired or disposed.

* * * * *

3. Amend § 30.2 by revising paragraphs (a)(1)(iv)(A) and (C), (b)(3), and (c) to read as follows:

§ 30.2 General requirements for filing Electronic Export Information (EEI).

(a) * * *

(1) * * *

(iv) * * *

(A) Requiring a Department of Commerce, Bureau of Industry and Security (BIS) license or requiring reporting under the Export Administration Regulations (15 CFR 758.1(b)).

* * * * *

(C) Subject to the ITAR, but exempt from license requirements, except as noted by the Department of State regulations.

* * * * *

(b) * * *

(3) The AES downtime procedures provide uniform instructions for processing export transactions when the government's AES or AESDirect is unavailable for transmission. (See § 30.4(b)(1) and (4)).

* * * * *

(c) Certification and filing requirements. Approval is required to file EEI or develop AES software.

(1) ACE Exporter Account Application. USPPIs or authorized agents who choose to file via the AESDirect shall complete an online ACE Exporter Account Application. No certification is required to file via AESDirect.

(2) Letter of intent. The following parties shall complete an online letter of intent:

(i) USPPIs or authorized agents who choose to file in a means other than AESDirect;

(ii) Self-programming USPPIs or authorized agents;

(iii) Service centers; and

(iv) Software vendors who develop AES software.

(3) Certification. The certification process is a two-part communication test to ascertain whether the system is capable of both transmitting data to and receiving responses from the AES. CBP client representatives make the sole determination as to whether or not the system of the self-programming filer, service center, or software vendor qualifies for certification. The following parties must complete the certification process:

(i) Self-programming USPPIs or authorized agents,

(ii) Service centers, and

(iii) Software vendors who develop AES software.

* * * * *

4. Amend § 30.3 by revising the introductory text of paragraph (e)(2) and adding paragraph (e)(2)(xv) to read as follows:

§ 30.3 Electronic Export Information filer requirements, parties to export transactions, and responsibilities of parties to export transactions.

* * * * *

(e) * * *

(2) Authorized agent responsibilities. In a routed export transaction, if an authorized agent is preparing and filing the EEI on behalf of the FPPI, the authorized agent must obtain a power of attorney or written authorization from the FPPI and prepare and file the EEI based on information obtained from the USPPI or other parties involved in the transaction. The authorized agent shall be responsible for filing EEI accurate and timely in accordance with the FTR. Upon request, the authorized agent will provide the USPPI with a copy of the power of attorney or written authorization from the FPPI. The authorized agent shall also retain documentation to support the EEI reported through the AES. The authorized agent shall upon request, provide the USPPI with the data elements in paragraphs (e)(1)(i) through (xii) of this section, the date of export as submitted through the AES, and the ITN. The authorized agent shall provide the following information through the AES:

* * * * *

(xv) Ultimate consignee type.

* * * * *

5. Amend § 30.4 by revising paragraphs (b)(2)(v), (b)(3) and (c) to read as follows:

§ 30.4 Electronic Export Information filing procedures, deadlines, and certification statements.

* * * * *

(b) * * *

(2) * * *

(v) For mail cargo, the USPPI or the authorized agent shall file the EEI required by § 30.6 and provide the filing citation or exemption legend to the U.S. Postal Service no later than two (2) hours prior to exportation.

* * * * *

(3) For shipments between the United States and Puerto Rico, the USPPI or authorized agent shall provide the AES proof of filing citation, postdeparture filing citation, AES downtime filing citation, exemption or exclusion legend to the exporting carrier by the time the shipment arrives at the port of unloading.

* * * * *

(c) EEI transmitted postdeparture—(1) Postdeparture filing procedures. Postdeparture filing is only available for approved USPPIs. For all methods of transportation other than pipeline, approved USPPIs or their authorized agent may file data elements required by § 30.6 no later than five (5) calendar days after the date of exportation, except for shipments where predeparture filing is specifically required.

(2) Pipeline filing procedures. USPPIs or authorized agents may file data elements required by § 30.6 no later than four (4) calendar days following the end of the month. The operator of a pipeline may transport goods to a foreign country without the prior filing of the proof of filing citation, exemption, or exclusion legend, on the condition that within four (4) calendar days following the end of each calendar month the operator will deliver to the CBP Port Director the proof of filing citation, exemption, or exclusion legend covering all exports through the pipeline to each consignee during the month.

* * * * *

6. Amend § 30.5 by revising the section heading, removing the introductory text, removing and reserving paragraphs (a) and (b), removing paragraph (d)(3), and revising paragraph (f) to read as follows:

§ 30.5 Electronic Export Information filing processes and standards.

(a) [Reserved].

(b) [Reserved].

* * * * *

(f) Support. The Census Bureau provides online services that allow the USPPI and the authorized agent to seek assistance pertaining to AES and this part. For AES assistance, filers may send an email to ASKAES@census.gov. For FTR assistance, filers may send an email to itmd.askregs@census.gov.

7. Amend § 30.6 by revising the introductory text, paragraphs (a)(1), (a)(1) and (iv), (a)(5)(i) and (ii), (a)(11), (a)(19), and (b)(14), and adding paragraphs (b)(18) and (c)(3) to read as follows:

§ 30.6 Electronic Export Information data elements.

The information specified in this section is required for EEI transmitted to the AES. The data elements identified as “mandatory” shall be reported for each transaction. The data elements identified as “conditional” shall be reported if they are required for or apply to the specific shipment. The data elements identified as “optional” may be reported at the discretion of the USPPI or the authorized agent. Additional data elements may be required to be reported in the AES by other federal agencies' regulations. Refer to the other agencies' regulations for reporting requirements.

(a) * * *

(1) USPPI. The person or legal entity in the United States that receives the primary benefit, monetary or otherwise, from the export transaction. Generally, that person or entity is the U.S. seller, manufacturer, or order party, or the foreign entity while in the United States when purchasing or obtaining the goods for export. The name, address, identification number, and contact information of the USPPI shall be reported to the AES as follows:

* * * * *

(iii) USPPI identification number. Report the EIN or DUNS number of the USPPI. If the USPPI has only one EIN, report that EIN. If the USPPI has more than one EIN, report an EIN that the USPPI only uses to report employee wages and withholdings, not an EIN used to report only company earnings or receipts. Use of another company's EIN is prohibited. The appropriate Party ID Type code shall be reported to the AES. If a foreign entity is in the United States at the time goods are purchased or obtained for export, the foreign entity is the USPPI. In such situations, when the foreign entity does not have an EIN, the authorized agent shall report a border crossing number, passport number, or any number assigned by CBP on behalf of the foreign entity.

(iv) USPPI contact information. The person who has the most knowledge regarding the specific shipment or related export controls.

* * * * *

(5) * * *

(i) Shipments under an export license. For shipments under an export license issued by the Department of State, Directorate of Defense Trade Controls (DDTC), or the Department of Commerce, Bureau of Industry and Security (BIS), the country of ultimate destination shall conform to the country of ultimate destination as shown on the license. In the case of a DDTC or BIS license, the country of ultimate destination is the country specified with respect to the end user. However, in the case of a BIS license, if no end user is listed, report the country of ultimate destination with respect to the ultimate consignee on the license. For goods licensed by other government agencies, refer to the agencies' specific requirements for providing country of destination information.

(ii) Shipments not moving under an export license. The country of ultimate destination is the country known to the USPPI or U.S. authorized agent at the time of exportation. The country to which the goods are being shipped is not the country of ultimate destination if the USPPI or U.S. authorized agent has knowledge, at the time the goods leave the United States, that they are intended for reexport or transshipment in the form received to another known country. For goods shipped to Canada, Mexico, Panama, Hong Kong, Belgium, United Arab Emirates, The Netherlands, or Singapore, special care should be exercised before reporting these countries as the ultimate destinations because these are countries through which goods from the United States are frequently transshipped. If the USPPI or U.S. authorized agent does not know the ultimate destination of the goods, the country of destination to be shown is the last country, as known to the USPPI or U.S. authorized agent at the time the goods leave the United States, to which the goods are to be shipped in their present form. (For instructions as to the reporting of country of ultimate destination for vessels sold or transferred from the United States to foreign ownership, see § 30.26). In addition, the following types of shipments must be reported as follows:

(A) Department of State, DDTC, license exemption. The country of ultimate destination is the country specified with respect to the end user.

(B) Department of Commerce, BIS, license exception. The country of ultimate destination is the country of the end user as defined in 15 CFR 772.1 of the Export Administration Regulations (EAR).

(C) For shipments to international waters. The country of ultimate destination is the nationality of the person(s) or entity assuming control of the item(s) that are being exported.

* * * * *

(11) Domestic or foreign indicator. Indicates if the goods exported are of domestic or foreign origin. Report foreign goods as a separate line item from domestic goods even if the commodity classification is the same.

* * * * *

(19) Shipment reference number (SRN). A unique identification number assigned by the filer that allows for the identification of the shipment in the filer's system. The reuse of the SRN is prohibited.

* * * * *

(b) * * *

(14) Transportation Reference Number (TRN). The TRN is as follows:

* * * * *

(18) Used electronics indicator. An indicator that identifies whether the commodity is a used electronic. Used electronics are various electronic equipment, products and associated accessories including consumer electronics and information technology equipment that are no longer in new packaging and have been given away or sold to be recycled, resold, reused, refurbished, repaired or disposed.

(c) * * *

(3) Original ITN. The ITN associated with a previously filed shipment that is replaced or divided and for which additional shipment(s) must be filed. The original ITN field can be used in certain scenarios, such as, but not limited to, shipments sold en route or cargo split by the carrier where the succeeding parts of the shipment are not exported within the timeframes specified in § 30.28.

§ 30.10 [Amended]

8. Amend § 30.10 by removing paragraphs (a)(1) and (2).

9. Amend § 30.28 by revising the introductory text and paragraph (a), and removing paragraph (c) to read as follows:

§ 30.28 Split shipments.

A split shipment is a shipment covered by a single EEI record booked for export on one conveyance that is divided for shipment on more than one conveyance by the exporting carrier prior to export. The exporting carrier must file the manifest in accordance with CBP regulations indicating that the cargo was sent on two or more of the same type of conveyance of the same carrier leaving from the same port of export within 24 hours by vessel or 7 days by air, truck, or rail. For the succeeding parts of the shipment that are not exported within time frame specified above, a new EEI record must be filed and amendments must be made to the original EEI record. If a new EEI record is required, the original ITN data element may be used. The following procedures apply for split shipments:

(a) The carrier shall submit the manifest to the CBP Port Director with the manifest covering the conveyance on which the first part of the split shipment is exported and shall make no changes to the EEI. However, the manifest shall show in the “number of packages” column the actual portion of the declared total quantity being carried and shall carry a notation to indicate “Split Shipment” e.g., “3 of 10—Split Shipment.” All associated manifests with the notation “Split Shipment” will have identical ITNs if exported within 24 hours by vessel or 7 days by air, truck, or rail.

* * * * *

10. Amend § 30.29 by revising paragraphs (a)(1) and (2) and (b)(2) to read as follows:

§ 30.29 Reporting of repairs and replacements.

* * * * *

(a) * * *

(1) The return of goods not licensed by a U.S. Government agency and not subject to the ITAR, temporarily imported for repair and alternation, and declared as such on importation shall have Schedule B number 9801.10.0000. The value shall only include parts and labor. The value of the original product shall not be included. If the value of the parts and labor is over $2,500, then EEI must be filed.

(2) The return of goods licensed by a U.S. Government agency or subject to the ITAR, temporarily imported for repair or alternation, and declared as such on importation shall have Schedule B number 9801.10.0000. In the value field, report the value of the parts and labor. In the license value field, report the value designated on the export license that corresponds to the commodity being exported if required by the U.S. Government agency. EEI must be filed regardless of value.

(b) * * *

(2) Goods that are replaced under warranty at no charge to the customer shall include the statement, “Product replaced under warranty, value for EEI purposes” on the bill of lading, air waybill, or other commercial loading documents. Place the notation below the proof of filing citation or exemption legend on the commercial document. Report the Schedule B number or Harmonized Tariff Schedule of the United States Annotated (HTSUSA) commodity classification number of the replacement parts. For goods not licensed by a U.S. Government agency, report the value of the replacement parts in accordance with § 30.6(a)(17). For items licensed by a U.S. Government agency, report the value and license value in accordance with § 30.6(a)(17) and § 30.6(b)(15) respectively.

11. Amend § 30.36 by revising paragraph (b)(4) to read as follows:

§ 30.36 Exemption for shipments destined to Canada.

* * * * *

(b) * * *

(4) Requiring a Department of Commerce, Bureau of Industry and Security, license or requiring reporting under the Export Administration Regulations (15 CFR 758.1(b)).

* * * * *

12. Amend subpart E by revising the heading to read as follows:

Subpart E—Manifest Requirements

13. Amend § 30.45 by revising the section heading, paragraphs (a) introductory text and (a)(1), removing and reserving paragraph (a)(2); revising paragraph (b); and removing paragraphs (c) through (f); to read as follows:

§ 30.45 Manifest requirements.

(a) File the manifest in accordance with Customs and Border Protections (CBP) regulations.

(1) Vessels. Vessels transporting goods as specified shall file a complete manifest, or electronic equivalent.

* * * * *

(b) Exempt items. For any item for which EEI is not required by the regulations in this part, a notation on the manifest shall be made by the carrier as to the basis for the exemption. In cases where a manifest is not required and EEI is not required, an oral declaration to the CBP Port Director shall be made as the basis for the exemption.

§§ 30.46 and 30.47 [Removed and reserved]

14. Remove and reserve §§ 30.46 and 30.47.

15. Amend § 30.50 by revising the introductory text to read as follows:

§ 30.50 General requirements for filing import entries.

Electronic entry summary filing through the Automated Commercial Environment (ACE), paper import entry summaries (CBP-7501), or paper record of vessel foreign repair or equipment purchase (CBP-226) shall be completed by the importer or its licensed import broker and filed directly with CBP in accordance with 19 CFR parts 1 through 199. Information on all mail and informal entries required for statistical and CBP purposes shall be reported, including value not subject to duty. Upon request, the importer or importer broker shall provide the Census Bureau with information or documentation necessary to verify the accuracy of the reported information, or to resolve problems regarding the reported import transaction received by the Census Bureau.

* * * * *

16. Revise § 30.53 to read as follows:

§ 30.53 Import of goods returned for repair.

Import entries covering U.S. goods imported temporarily to be repaired, altered, or processed under HTSUSA commodity classification code 9801.00.1012, and foreign goods imported temporarily to be repaired or altered under the HTSUSA commodity classification code 9813.00.0540 are required to show the following statement: “Imported for Repair and Reexport” on CBP Form 7501 or its electronic equivalent. When the goods are subsequently exported, file according to the instructions provided in § 30.29.

17. Amend § 30.74 by revising paragraph (c)(5) to read as follows:

§ 30.74 Voluntary self-disclosure.

* * * * *

(c) * * *

(5) Where to make voluntary self-disclosures. With the exception of voluntary disclosures of manifest violations under § 30.74(c), the information constituting a Voluntary Self-Disclosure or any other correspondence pertaining to a Voluntary Self-Disclosure may be submitted to: Chief, International Trade Management Division, U.S. Census Bureau, 4600 Silver Hill Road, Washington, DC 20233. Additional instructions are found at www.census.gov/trade.

* * * * *

18. Amend Appendix B by adding in alpha-numeric order license code entries for “C60” and “C62” to Part III, under the undesignated center heading Department of Commerce, Bureau of Industry and Security (BIS) to read as follows:

Appendix B to Part 30—AES Filing Codes

* * * * *

Part III—License Codes

Department of Commerce, Bureau of Industry and Security (BIS), Licenses

* * * * *

C60 DY6—.y “600 series” items

C62 SCP—Support for the Cuban People

* * * * *

19. Amend Appendix D by revising the heading and entries III and IV, and removing entry XII.

The revisions read as follows:

Appendix D to Part 30—AES Filing Citation, Exemption and Exclusion Legends

* * * * * * *
III. AES Postdeparture Citation—USPPI USPPI is filing the EEI | AESPOST USPPI EIN Date of Export (mm/dd/yyyy) Example: AESPOST 12345678912 01/01/2016.
IV. Postdeparture Citation—Agent Agent is filing the EEI | AESPOST USPPI EIN—Filer ID Date of Export (mm/dd/yyyy) Example: AESPOST 12345678912—987654321 01/01/2016.
* * * * * * *

Dated: March 1, 2016.
John H. Thompson,
Director, Bureau of the Census.

[FR Doc. 2016-05047 Filed 3-8-16; 8:45 am]

BILLING CODE 3510-07-P